DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on June 8, 2009, vol. 74, no. 108, page 27233-27234. Runway incursions are a risk to the public traveling in aircraft. Feedback from these surveys is used in the prevention of runway collisions and in the medication of the severity and frequency of runway incursions.

DATES: Please submit comments by September 28, 2009.

FOR FURTHER INFORMATION CONTACT: Carla Mauney at Carla.Mauneyfaa.gov.

SUPPLEMENTARY INFORMATION:

Federal Aviation Administration (FAA)

Title: Information for the Prevention of Aircraft Collisions at Towered Airports.

Type of Request: Revision of a currently approved collection.

OMB Control Number: 2120-0692.

Forms(s) There are no FAA forms associated with this collection.

Affected Public: An estimated 8,900 Respondents.

Frequency: This information is collected on occasion.

Estimated Average Burden Per Response: Approximately 16.5 minutes per response.

Estimated Annual Burden Hours: An estimated 2510 hours annually.

Abstract: Runway incursions are a risk to the public traveling in aircraft. Feedback from these surveys is used in the prevention of runway collisions and in the medication of the severity and frequency of runway incursions.

ADDRESSES: Interested persons are invited to submit written comments on the proposed information collection to the Office of Information and Regulatory Affairs, Office of Management and Budget. Comments should be addressed to the attention of the Desk Officer, Department of Transportation/FAA, and sent via electronic mail to oirasubmission@omb.eop.gov, or faxed to (202) 395-6974, or mailed to the Office of Information and Regulatory Affairs, Office of Management and Budget, Docket Library, Room 10102, 725 17th Street, NW., Washington, DC 20503.

Comments are Invited On: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on August 21, 2009.
Carla Mauney,
FAA Information Collection Clearance Officer, IT Enterprises Business Services Division, AES-200.

[FR Doc. E9-20703 Filed 8-27-09; 8:45 am]

BILLING CODE 4910-13-M